DEPARTMENT OF DEFENSE

Department of the Army

32 CFR Part 633

RIN 0702-AA61

[Docket No. USA-2009-0004]

Individual Requests for Access or Amendment of CID Reports of Investigation

AGENCY: Department of the Army, DoD.

ACTION: Final rule.

SUMMARY: The Department of the Army is amending its rule on Individual Requests for Access or Amendment of CID Reports of Investigation to correct the mailing address. The address for submitting requests for access to, or amendment of, USACIDC investigative reports has changed.

DATES: Effective Date: This rule is effective February 24, 2009.

FOR FURTHER INFORMATION CONTACT: SGM David K. Schumann, 703-806-0272, e-mail: david.schumann@us.army.mil.

SUPPLEMENTARY INFORMATION:

A. Background

In the July 27, 1979, issue of the Federal Register (44 FR 44156), the Department of the Army issued a final rule. This final rule corrects the mailing address for USACIDC. The U.S. Army Crime Records Center moved to Fort Belvoir in May 1995.

B. Regulatory Flexibility Act

The Department of the Army has determined that the Regulatory Flexibility Act does not apply because the rule change does not have a significant economic impact on a substantial number of small entities within the meaning of the Regulatory Flexibility Act, 5 U.S.C. 601-612.

C. Unfunded Mandates Reform Act

The Department of the Army has determined that the Unfunded Mandates Reform Act does not apply because the rule change does not include a mandate that may result in estimated costs to State, local or tribal governments in the aggregate, or the private sector, of $100 million or more.

D. National Environmental Policy Act

The Department of the Army has determined that the National Environmental Policy Act does not apply because the rule change does not have an adverse impact on the environment.

E. Paperwork Reduction Act

The Department of the Army has determined that the Paperwork Reduction Act does not apply because the rule change does not involve collection of information from the public.

F. Executive Order 12630 (Government Actions and Interference With Constitutionally Protected Property Rights)

The Department of the Army has determined that Executive Order 12630 does not apply because the rule change does not impair private property rights.

G. Executive Order 12866 (Regulatory Planning and Review)

The Department of the Army has determined that according to the criteria defined in Executive Order 12866 this rule change is not a significant regulatory action.

H. Executive Order 13045 (Protection of Children From Environmental Health Risk and Safety Risks)

The Department of the Army has determined that according to the criteria defined in Executive Order 13045 that Executive Order does not apply.

I. Executive Order 13132 (Federalism)

The Department of the Army has determined that according to the criteria defined in Executive Order 13132 that Executive Order does not apply because the rule change will not have a substantial effect on the States, on the relationship between the national government and the States, or on the distribution of power and responsibilities among the various levels of government.

Phillip J. McGuire,
Director, U.S. Army Crime Records Center.

List of Subjects in 32 CFR Part 633

Freedom of information, Investigation, Privacy.

For reasons stated in the preamble 32 CFR part 633 is amended as follows:

PART 633—INDIVIDUAL REQUESTS FOR ACCESS OR AMENDMENT OF CID REPORTS OF INVESTIGATION

1. The authority citation for part 633 continues to read as follows:

Authority: Sec. 3012, 70A Stat. 157; 10 U.S.C. 3012.

2. Section 633.13 is revised to read as follows:

§ 633.13 Submission of requests.

Requests for access to, or amendment of, USACIDC investigative reports will be forwarded to the Director, U.S. Army Crime Records Center (CICR-FP), 6010 6th Street, Fort Belvoir, VA 22060-5585.

[FR Doc. E9-3883 Filed 2-23-09; 8:45 am]

BILLING CODE 3710-08-P